U.S.-CHINA ECONOMIC AND SECURITY REVIEW COMMISSION

Notice of Open Public Meetings

AGENCY: U.S.-China Economic and Security Review Commission.

ACTION: Notice of open public meetings.

SUMMARY: Notice is hereby given of the following meetings of the U.S.-China Economic and Security Review Commission to review and edit drafts of the 2024 Annual Report to Congress. The Commission is mandated by Congress to investigate, assess, and report to Congress annually on the “the national security implications of the economic relationship between the United States and the People's Republic of China.” Pursuant to this mandate, the Commission will hold public meetings to review and edit drafts of the 2024 Annual Report to Congress.

DATES: These meetings of the Commission to review and edit draft reports are called to order or adjourned by the Chairman as needed between the initial opening session on June 20, 2024 and the planned final session to be completed by October 11, 2024. The current schedule for review and editing sessions are planned for Thursday, June 20, 2024; Friday, June 21, 2024 (as needed); Thursday, August 1, 2024; Friday, August 2, 2024 (as needed); Thursday, September 12, 2024; Friday, September 13, 2024 (as needed); Thursday, October 10, 2024; Friday, October 11, 2024 (as needed).

Reach out to the below contact for any updates to this schedule.

ADDRESSES: 444 North Capitol Street NW, Room 233/235, Washington, DC 20001. Public seating is limited and will be available on a “first-come, first-served” basis. Reservations are not required to attend the meetings.

FOR FURTHER INFORMATION CONTACT: Any member of the public seeking further information concerning the meetings should contact Jameson Cunningham, 444 North Capitol Street NW, Suite 602, Washington, DC 20001; telephone: 202-624-1496, or via email at jcunningham@uscc.gov. Reservations are not required to attend the meetings.

ADA Accessibility: For questions about the accessibility of the event or to request an accommodation, please contact Jameson Cunningham at 202-624-1496, or via email at jcunningham@uscc.gov. Requests for an accommodation should be made as soon as possible, and at least five business days prior to the event.

SUPPLEMENTARY INFORMATION:

Purpose of Meeting: Pursuant to the Commission's mandate, members of the Commission will meet to review and edit drafts of the 2024 Annual Report to Congress. The Commission is subject to the Federal Advisory Committee Act (FACA) with the enactment of the Science, State, Justice, Commerce and Related Agencies Appropriations Act, 2006 that was signed into law on November 22, 2005 (Pub. L. 109-108). In accordance with FACA, the Commission's meetings to make decisions concerning the substance and recommendations of its 2024 Annual Report to Congress are open to the public.

Topics to Be Discussed: Editing and review sessions will cover material prepared for the 2024 Annual Report, including: a review of economics, trade, security and foreign affairs developments in 2024; China's progress in emerging technologies at the forefront of U.S.-China competition; the risks to consumer product safety posed by Chinese imports; China's counter-intervention capabilities in the Indo-Pacific region; U.S. strategies to address China's nonmarket practices and other aspects of intersecting economic and national security challenges associated with China; the Chinese Communist Party's efforts to prepare Chinese society for a crisis or conflict; changing relations between China and the Middle East, Taiwan, and Hong Kong; and other matters within the Commission's mandate as the Commission chooses to take up in deliberation of the Annual Report.

Required Accessibility Statement: These meetings will be open to the public. The Commission may recess the meetings to address administrative issues in closed session. The Commission will also recess the meetings around noon for a lunch break. At the beginning of the lunch break, the Chairman will announce what time the meetings will reconvene.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: May 31, 2024.
Christopher P. Fioravante,
Director of Operations and Administration, U.S.-China Economic and Security Review Commission.

[FR Doc. 2024-12337 Filed 6-4-24; 8:45 am]

BILLING CODE 1137-00-P